DEPARTMENT OF LABOR

Employment and Training Administration

Information Regarding the Relocation of Foreign Labor Certification Staff in the Dallas and Philadelphia Regional Offices to the Dallas and Philadelphia Backlog Processing Centers and Information Regarding H-1B and H-1B1 Case Processing

AGENCY: Employment and Training Administration, Labor.

ACTION: Notice.

SUMMARY: The Employment and Training Administration (ETA) of the Department of Labor (Department or DOL) is issuing this notice to announce that DOL has moved its Foreign Labor Certification field staff in the Dallas and Philadelphia Regional Offices to the new Dallas and Philadelphia Backlog Processing Centers. This notice provides the public in the Dallas and Philadelphia regions with contact information regarding these two new processing centers. All foreign labor certification processing activities previously conducted in the Dallas or Philadelphia Regional Offices will now be assumed by the corresponding Dallas or Philadelphia Backlog Processing Center.

The Backlog Processing Centers shall continue these functions on an interim basis and ETA shall publish a Federal Register notice in the near future providing guidance as to the handling of backlogged cases with the State Workforce Agencies (SWAs).

Employers should continue, until ETA publishes future guidance on this issue, to file applications for H-2B and H-2A, as well as applications for permanent labor certification with the appropriate SWA, which will, in turn, forward materials to the appropriate Backlog Processing Center.

Effective November 30, 2004, H-1B and H-1B1 filings must use a new form, as discussed below.

FOR FURTHER INFORMATION CONTACT: William Carlson, Chief, Division of Foreign Labor Certification, Employment and Training Administration, U.S. Department of Labor, 200 Constitution Avenue, NW., Room C-4312, Washington, DC 20210; Telephone: (202) 693-3010 (this is not a toll-free number).

SUPPLEMENTARY INFORMATION: The Dallas and Philadelphia Backlog Processing Centers partially opened September 27, 2004 and have assumed the responsibility for processing Applications for Alien Employment Certification (ETA Form 750) for Permanent Employment, and H2-A, and H2-B applications previously processed by ETA's Dallas or Philadelphia Regional Offices. H-1B and H-1B1 program notice: A new version of the form ETA 9035, Labor Condition Application (LCA), will be required, to be used as of November 30, 2004 for both H-1B and H-1B1 filings. The new form incorporates the distinction between H-1B and H-1B1 Singapore and H-1B1 Chile programs, updates OMB approval information, and removes the “Government Use Only” section. Starting on approximately November 15, 2004, H-1B and H-1B1 filings using the revised ETA Form 9035 will be accepted at the existing Application Processing Center address and fax number set forth below. The new form will be available for use on the LCA Online Web site (http://www.lca.doleta.gov). As of November 30, 2004, the new ETA Form 9035 must be used by both H-1B and H-1B1 filers, and the H-1B1 applications for Singapore and Chile will no longer be accepted at the Washington, DC, address previously included in H-1B1 program instructions.

The H1-B and H-1B1 address and fax number are: ETA Application Processing Center, P.O. Box 13640, Philadelphia, PA 19101, Fax: 800-397-0478.

This notice does not affect the pending proposal to streamline procedures for permanent labor certification under 20 CFR part 656, which was published in the Federal Register on May 6, 2002.

ADDRESSES: The following new addresses, phone numbers, and fax numbers should be used by employers and by State Workforce Agencies for either inquiries or for the forwarding of application materials, as appropriate. Please note: For all application materials, inquiries, and other correspondence sent to either the Dallas or Philadelphia Backlog Processing Center, envelopes should be clearly marked according to the appropriate program type, i.e., Permanent, H2-A or H2-B.

Dallas Backlog Processing Center Address: ETA/DFLC Backlog Processing Center, U.S. Department of Labor, 700 North Pearl Street, Suite 400 N, Dallas, TX 75201, Phone: 214-237-9111, Fax: 214-237-9135.

Philadelphia Backlog Processing Center Address: ETA/DFLC Backlog Processing Center, U.S. Department of Labor, 1 Belmont Avenue, Suite 200, Bala Cynwyd, PA 19004, Phone: 484-270-1500, Fax: 484-270-1600.

Signed in Washington, DC, this 19th day of November, 2004.
Emily Stover DeRocco,
Assistant Secretary, Employment and Training Administration.

[FR Doc. E4-3352 Filed 11-26-04; 8:45 am]

BILLING CODE 4510-30-P